DEPARTMENT OF LABOR

Employment and Training Administration

[TA-W-70,839; TA-W-70,839A; TA-W-70,839B; TA-W-70,839C]

Tele Atlas North America, Inc., Currently Doing Business as Tom Tom Including Off-Site Workers Reporting to This Location, Lebanon, NH; Tele Atlas North America, Inc. Currently Doing Business as Tom Tom, Concord, MA; Tele Atlas North America, Inc. Currently Doing Business as Tom Tom, Detroit, MI; Tele Atlas North America, Inc. Currently Doing Business as Tom Tom, Redwood, CA; Amended Certification Regarding Eligibility To Apply for Worker Adjustment Assistance

In accordance with Section 223 of the Trade Act of 1974, as amended (“Act”), 19 U.S.C. 2273, the Department of Labor issued a Certification of Eligibility to Apply for Worker Adjustment Assistance on November 19, 2009, applicable to workers of Tele Atlas North America, Inc. in Lebanon, New Hampshire and off-site workers reporting to Lebanon, New Hampshire (TA-W-70,839), Concord, Massachusetts (TA-W-70,839A), Detroit, Michigan (TA-W-70,839B), and Redwood, California (TA-W-70,839C). The Department's notice of determination was published in the Federal Register on January 25, 2010 (75 FR 3938).

At the request of the state, the Department reviewed the certification for workers of the subject firm. The workers produced digital map data, which is used for road navigation.

New information shows that as of January 2010, Tele Atlas North America, Inc. began doing business as Tom Tom. Workers that will be separated from employment at Tele Atlas North America, Inc. will have their wages reported under a separate unemployment insurance (UI) tax account under the name Tom Tom.

Accordingly, the Department is amending this certification to properly reflect this matter.

The intent of the Department's certification is to include all workers of the subject firm who were adversely affected by a shift in production of digital map data.

The amended notice applicable to TA-W-70,839 is hereby issued as follows:

All workers of Tele Atlas North America, Inc., currently doing business as Tom Tom, including off-site workers reporting to this location, Lebanon, New Hampshire (TA-W-70,839), Tele Atlas North America, Inc., currently doing business as Tom Tom, Concord, Massachusetts (TA-W-70,839A), Tele Atlas North America, Inc., currently doing business as Tom Tom, Detroit, Michigan (TA-W-70,839B), and Tele Atlas North America, Inc., currently doing business as Tom Tom, Redwood, California (TA-W-70,839C), who became totally or partially separated from employment on or after May 20, 2008, through November 19, 2011, and all workers in the group threatened with total or partial separation from employment on November 19, 2009 through two years from the date of certification, are eligible to apply for adjustment assistance under Chapter 2 of Title II of the Trade Act of 1974, as amended.

Signed at Washington, DC, this 13th day of August 2010.
Del Min Amy Chen,
Certifying Officer, Division of Trade Adjustment Assistance.

[FR Doc. 2010-28482 Filed 11-10-10; 8:45 am]

BILLING CODE 4510-FN-P